DEPARTMENT OF THE INTERIOR

Bureau of Reclamation

Upper Rio Grande Basin Water Operations Review

AGENCY: Bureau of Reclamation, Interior.

ACTION: Notice of public scoping meetings on development of a draft environmental impact statement (EIS) for upper Rio Grande basin water operations.

SUMMARY: Pursuant to section 102(2)(c) of the National Environmental Policy Act of 1969, as amended, the Bureau of Reclamation (Reclamation), with and on behalf of other joint-lead agencies [U.S. Army Corps of Engineers (Corps), Department of Defense; and the New Mexico Interstate Stream Commission (Commission), State of New Mexico], is preparing a draft EIS on water operations in the Rio Grande Basin above Fort Quitman, Texas. Preparation of the draft EIS will be integral to the Upper Rio Grande Basin Water Operations Review. It is anticipated that a plan for water operations at existing Reclamation and Corps facilities will be developed.

The public is invited to participate in a series of scoping meetings that will be held throughout the upper Rio Grande basin to receive comments from interested organizations and individuals on the environmental impacts of water operations in the Rio Grande Basin above Fort Quitman, Texas. Reclamation invites other federal agencies, states, Indian tribes, local governments, and the general public to submit written comments and/or suggestions concerning the scope of the issues to be addressed in the draft EIS.

Each scoping meeting will begin at 6:00 p.m. There will be a presentation, an opportunity to discuss issues and ask questions of staff and managers, and an informal open house where various technical teams for the Operations Review and EIS will provide information on resources as well as receive comments. Comments will be taken and recorded in writing at the open house or they may be provided in writing by meeting participants. Written comments may also be mailed to Reclamation, the Corps, or the Commission at the names and addresses provided below. Written comments should be received no later than November 20, 2000, to be most effectively considered.

Those not desiring to submit comments or suggestions at this time, but who would like to receive a copy of the draft EIS, should write to Mr. Chris Gorbach. When the draft EIS is complete, its availability will be announced in the Federal Register, in the local news media, and through direct contact with interested parties. Comments will be solicited on the document.

DATES AND LOCATIONS: The schedule of open public scoping meetings is as follows:

• June 28, 2000, 6-9 p.m., Alamosa Elks Lodge, 406 Hunt, Alamosa, Colorado

• June 29, 2000, 6-9 p.m., Kachina Lodge, 413 Paseo del Pueblo Norte, Taos, New Mexico

• July 26, 2000, 6-9 p.m., Northern New Mexico Community College, 921 Paseo de Onate, Espanola, New Mexico

• August 9, 2000, 6-9 p.m., El Meson Lodge, South Highway 84/64, Chama, New Mexico

• August 17, 2000, 6-9 p.m., Indian Pueblo Cultural Center, 2401 12th NW, Albuquerque, New Mexico

• September 20, 2000, 6-9 p.m., Radisson Hotel, 750 N. St. Francis, Santa Fe, New Mexico

• September 27, 2000, 6-9 p.m., El Paso Airport Hilton, 2027 Airway Blvd., El Paso, Texas

• October 17, 2000, 6-9 p.m., New Mexico State University, Corbett Center, Las Cruces, New Mexico

• October 18, 2000, 6-9 p.m., New Mexico Tech., Macy Center, 801 Leroy Place, Socorro, New Mexico

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

The Bureau of Reclamation ensures meeting accessibility to persons with disabilities. If you need sign language interpretation for the hearing impaired or have other special needs, please contact Mr. Chris Gorbach.

FOR FURTHER INFORMATION CONTACT: Mr. Chris Gorbach, Bureau of Reclamation, Albuquerque Area Office, 505 Marquette, N.W., Suite 1313, Albuquerque, New Mexico 87102-2162; telephone (505) 248-5379; faxogram (505) 248-5356; Email: cgorbach@uc.usbr.gov.

Ms. Gail Stockton, U.S. Army Corps of Engineers, Albuquerque District, 4101 Jefferson NE, Albuquerque, New Mexico 87109; telephone (505) 342-3348; Email: gail.r.stockton@usace.army.mil.

Mr. Rolf Schmidt-Petersen or Rhea Graham, New Mexico Interstate Stream Commission, Springer Square Building, 121 Tijeres Avenue NE, Suite 2000, Albuquerque, New Mexico 87102; telephone (505) 841-9480, extension 127; Email: Schmidt_Rolf@seo.state.nm.us or rgraham@ose.state.nm.us.

SUPPLEMENTARY INFORMATION: For supplementary information, please see the Federal Register notice of March 7, 2000, 65 FR 12030-12031.

Dated: May 25, 2000.
Larry P. Walkoviak,
Acting Regional Director, Upper Colorado Region.

[FR Doc. 00-14006 Filed 6-2-00; 8:45 am]

BILLING CODE 4310-MN-P